DEPARTMENT OF THE INTERIOR

Bureau of Land Management

43 CFR Part 3800

[WO-300-1990-PB-24 1A]

RIN 1004-AD44

Mining Claims Under the General Mining Laws; Surface Management

AGENCY: Bureau of Land Management, Interior.

ACTION: Proposed rule; reopening of comment period.

SUMMARY: The Bureau of Land Management (BLM or “we”) is reopening the public comment period on our Surface Management (43 CFR 3809) proposed rule, published in the Federal Register on October 30, 2001 (66 FR 54689). The purpose of the proposed rule is to obtain further public comment on changes to the Surface Management Regulations that BLM adopted in a final rule also published on October 30, 2001 (66 FR 54834). We are also seeking comment on other changes in the Surface Management Regulations that were not directly addressed in that final rule. The proposed rule would revise BLM's regulations governing mining operations involving metallic and some other minerals on public lands.

DATES: You should submit your comments by May 13, 2002. In the decision making process on the proposed rule, BLM will not necessarily consider comments postmarked or received by messenger after the above date.

ADDRESSES: Mail: Director (630), Bureau of Land Management, Administrative Record, Eastern States Office, 7450 Boston Boulevard., Springfield, Virginia 22153, Attention: RIN 1004-AD44.

Personal or messenger delivery: Room 401, 1620 L Street, NW., Washington, DC 20036.

FOR FURTHER INFORMATION CONTACT: Richard Deery 202/452-5198; or Michael Schwartz, 202/452-5198. Individuals who use a telecommunications device for the deaf (TDD) may contact us through the Federal Information Relay Service at 1-800/877-8339, 24 hours a day, 7 days a week.

SUPPLEMENTARY INFORMATION:

I. How Can I Comment on the Proposed Rule?

II. Why is BLM Reopening the Comment Period?

I. How Can I Comment on the Proposed Rule?

A. How do I Comment on the Proposed Rule?

If you wish to comment, you may submit your comments by either of these methods.

• You may mail comments to Director (630), Bureau of Land Management, Administrative Record, Eastern States Office, 7450 Boston Boulevard, Springfield, Virginia 22153, Attention: RIN 1004-AD44.

• You may deliver comments to Room 401, 1620 L Street, NW., Washington, DC 20036.

• Electronic access and filing address:

You may also comment via the Internet to: WOComment@blm.gov. Please also include: “Attention: AD-44” and your name and return address in your Internet message. If you do not receive a confirmation from the system that we have received your Internet message, contact us directly at 202/452-5030. You may view an electronic version of this proposed rule at BLM's Internet home page: www.blm.gov.

Written comments on the proposed rule are most helpful if you:

(A) Are specific;

(B) Confine comments to issues pertinent to the proposed rule;

(C) Explain the reason for any recommended change; and

(D) Reference the specific section or paragraph of the proposal you are addressing.

We welcome suggested regulatory language.

BLM may not necessarily consider or include in the Administrative Record for the final rule comments that BLM receives after the close of the comment period (see DATES) or comments delivered to an address other than those listed above (see ADDRESSES).

B. May I Review Comments Submitted by Others?

You may review comments, including names and street addresses of respondents, at the address listed under ADDRESSES. Personal or messenger delivery” during regular business hours (7:45 a.m. to 4:15 p.m.), Monday through Friday, except holidays.

Individual respondents may request confidentiality, which we will honor to the extent allowable by law. If you wish to withhold your name or address, except for the city or town, you must state this prominently at the beginning of your comment. We will make all submissions from organizations or businesses, and from individuals identifying themselves as representatives or officials of organizations or businesses, available for public inspection in their entirety.

II. Why Is BLM Reopening the Comment Period?

On February 1, 2002, the Department of the Interior reopened the comment period on this rule for 14 days (see 66 FR 4940). We did this because BLM was unable to receive internet mail from the public between December 4, 2001, and February 19, 2002 and because mail delivery to the Department was disrupted during the original comment period for this proposed rule. Although we recently reopened the comment period for 14 days (which ended on February 15, 2002) this may not have allowed the public sufficient additional time to comment. Given continued interest in many aspects of this rulemaking we decided it is in the public interest to open the comment period for an additional 30 days. We continue to be interested in comments on the following topics:

• Whether we should amend the regulations regarding BLM's relationship to states and the delegations these rules provide.

• The current availability of financial guarantees to assure the performance of reclamation and the availability of additional means to provide sound and reliable financial guarantees.

• Whether BLM should always perform a validity examination before approving a plan of operations on withdrawn lands.

• Whether we should add a specific reference to cave resources in the performance standards.

• Whether the 3809 regulations contain other provisions which are either overly burdensome or fail to provide adequate environmental protection.

We may address these issues and others in a future proposed rule.

We also continue to seek comments on other aspects of the surface management regulations.

Dated: March 27, 2002.
Rebecca W. Watson,
Assistant Secretary, Land and Minerals Management.

[FR Doc. 02-8873 Filed 4-11-02; 8:45 am]

BILLING CODE 4310-84-P